INTERNATIONAL TRADE COMMISSION

Agency Form Submitted for OMB Review

AGENCY: International Trade Commission.

ACTION: The U.S. International Trade Commission (USITC) has submitted the following information collection requirements to the Office of Management and Budget (OMB) requesting emergency processing for review and clearance under the Paperwork Reduction Act of 1995 (44 U.S.C. chapter 35). The Commission has requested OMB approval of this submission by COB Aug. 7, 2000.

DATE: Effective Date: July 18, 2000.

Purpose of Information Collection

The forms are for use by the Commission in connection with investigation No. 332-416, The Economic Effects on the United States of the EU-South Africa Agreement on Trade, Development, and Cooperation, instituted under the authority of section 332(g) of the Tariff Act of 1930 (19 U.S.C. 1332(g)). This investigation was requested by the President through the Office of the Trade Representative. The Commission expects to deliver the results of its investigation to the Trade Representative by April 12, 2001.

Summary of Proposal

(1) Number of forms submitted: One.

(2) Title of form: Telephone Survey Worksheet: The Economic Effects on the United States of the EU-South Africa Agreement on Trade, Development, and Cooperation.

(3) Type of request: New.

(4) Frequency of use: Telephone survey, single data gathering, scheduled for 2000.

(5) Description of respondents: Representative selection of U.S. firms and organizations that may be affected by the EU-South Africa Trade Agreement.

(6) Estimated total number of respondents: 200.

(7) Estimated total number of hours to complete the forms: 100.

(8) Information obtained from the form that qualifies as confidential business information will be so treated by the Commission and not disclosed in a manner that would reveal the individual operations of a firm.

FOR FURTHER INFORMATION CONTACT: Copies of the forms and supporting documents may be obtained from George S. Serletis, Office of Industries, USITC (202-205-3315). Comments about the proposals should be directed to the Office of Management and Budget, Office of Information and Regulatory Affairs, Room 10102 (Docket Library), Washington, DC 20503, ATTENTION: Docket Librarian. All comments should be specific, indicating which part of the survey is objectionable, describing the concern in detail, and including specific suggested revisions or language changes. Copies of any comments should be provided to Robert Rogowsky, Director, Office of Operations, U.S. International Trade Commission, 500 E Street S.W., Washington, D.C. 20436, who is the Commission's designated Senior Official under the Paperwork Reduction Act.

Hearing impaired individuals are advised that information on this matter can be obtained by contacting our TDD terminal (telephone no. 202-205-1810). General information concerning the Commission may also be obtained by accessing its Internet server (http://www.usitc.gov).

By order of the Commission.
Issued: July 24, 2000.
Donna R. Koehnke,
Secretary.

[FR Doc. 00-19051 Filed 7-27-00; 8:45 am]

BILLING CODE 7020-02-P